DEPARTMENT OF ENERGY

Federal Energy Regulatory Commission

Combined Notice of Filings No. 1

February 22, 2006.

Take notice that the Commission received the following electric rate filings.

Docket Numbers: ER00-3039-001.

Applicants: Exeter Energy Limited Partnership.

Description: Exeter Energy L.P. submits the revised triennial generation market power analysis.

Filed Date: 2/10/2006.

Accession Number: 20060221-0083.

Comment Date: 5 p.m. Eastern Time on Friday, March 3, 2006.

Docket Numbers: ER03-447-003.

Applicants: Black Oak Energy, LLC.

Description: Black Oak Energy, LLC submits its triennial updated market analysis requesting authority to engage in wholesale electric power & energy transactions pursuant to FERC's 2/10/05 Order 652.

Filed Date: 2/13/2006.

Accession Number: 20060216-0028.

Comment Date: 5 p.m. Eastern Time on Monday, March 6, 2006.

Docket Numbers: ER05-918-002.

Applicants: Western Massachusetts Electric Company.

Description: Northeast Utilities Services Co submits a letter agreement between NUSCO and Connecticut Municipal Electric Energy Cooperative.

Filed Date: 2/13/2006.

Accession Number: 20060216-0025.

Comment Date: 5 p.m. Eastern Time on Monday, March 6, 2006.

Docket Numbers: ER06-288-001.

Applicants: Northeast Utilities Service Company.

Description: Northeast Utilities Service Co submits a letter agreement between NUSCO and Connecticut Municipal Electric Energy Cooperative.

Filed Date: 2/13/2006.

Accession Number: 20060216-0026.

Comment Date: 5 p.m. Eastern Time on Monday, March 6, 2006.

Docket Numbers: ER06-439-000.

Applicants: Otter Tail Power Company.

Description: Otter Tail Power Co submits an amendment to the Interconnection and Transmission Service Agreement with Minnkota Power Cooperative, Inc.

Filed Date: 2/13/2006.

Accession Number: 20060213-5048.

Comment Date: 5 p.m. Eastern Time on Monday, March 6, 2006.

Docket Numbers: ER06-631-000.

Applicants: Mountainview Power Company, LLC.

Description: Mountainview Power Co, LLC submits support for an updated cost of capital for use in billings under the Power Purchase Agreement with Southern California Edison Co.

Filed Date: 2/13/2006.

Accession Number: 20060216-0147.

Comment Date: 5 p.m. Eastern Time on Monday, March 6, 2006.

Docket Numbers: ER06-632-000.

Applicants: Southern California Edison Company.

Description: Southern California Edison Co submits an amended Service Agreement for Wholesale Distribution Service with the City of Riverside, CA.

Filed Date: 2/13/2006.

Accession Number: 20060216-0035.

Comment Date: 5 p.m. Eastern Time on Monday, March 6, 2006.

Docket Numbers: ER06-633-000.

Applicants: PJM Interconnection, LLC.

Description: PJM Interconnection LLC submits an executed interconnection service agreement with Casselman Windpower LLC and Pennsylvania Electric Co.

Filed Date: 2/13/2006.

Accession Number: 20060216-0036.

Comment Date: 5 p.m. Eastern Time on Monday, March 6, 2006.

Docket Numbers: ER06-634-000.

Applicants: Spruance Genco, LLC.

Description: Spruance Genco, LLC's petition for order accepting market-based rate tariff for filing and granting waivers and blanket approvals.

Filed Date: 2/13/2006.

Accession Number: 20060216-0032.

Comment Date: 5 p.m. Eastern Time on Monday, March 6, 2006.

Docket Numbers: ER06-635-000.

Applicants: Edgecombe Genco, LLC.

Description: Petition of Edgecombe Genco, LLC for Order accepting market-based rate tariff for filing and granting waviers and blanket approvals.

Filed Date: 2/13/2006.

Accession Number: 20060216-0031.

Comment Date: 5 p.m. Eastern Time on Monday, March 6, 2006.

Docket Numbers: ER06-636-000.

Applicants: Nevada Power Company.

Description: Nevada Power Co submits a Notice of Cancellation of an Agreement for Long-Term Firm Point-to-Point Transmission Service with Pinnacle West Energy Corp.

Filed Date: 2/13/2006.

Accession Number: 20060216-0149.

Comment Date: 5 p.m. Eastern Time on Monday, March 6, 2006.

Docket Numbers: ER97-3428-009.

Applicants: Tri-Valley Corporation.

Description: Tri-Valley Corp's amended and updated market power analysis and Revised First Original Sheet 1 et al., First Revised Volume 1 related to its market-based rate authorization.

Filed Date: 2/13/2006.

Accession Number: 20060216-0027.

Comment Date: 5 p.m. Eastern Time on Monday, March 6, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov or call (866) 208-3676 (toll free). For TTY, call (202) 502-8659.

Magalie R. Salas,
Secretary.

[FR Doc. E6-2860 Filed 2-28-06; 8:45 am]

BILLING CODE 6717-01-P